DEPARTMENT OF THE INTERIOR

Bureau of Indian Affairs

[167A2100DD/AADD001000/A0A501010.999900]

Contract Support Costs

AGENCY: Bureau of Indian Affairs, Interior.

ACTION: Notice of tribal consultation.

SUMMARY: This notice announces that the Office of the Assistant Secretary—Indian Affairs (AS-IA) will be hosting tribal consultation sessions on a streamlined draft policy that will address contract support costs (CSC) incurred by Tribes under Indian Self-Determination and Education Assistance Act (ISDEAA) self-determination contracts and Self-Governance funding agreements.

DATES: Written comments on the draft policy must be received the Department of the Interior (Department) by July 29, 2016. Please see the SUPPLEMENTARY INFORMATION section of this notice for dates of the tribal consultation sessions.

ADDRESSES: A copy of the draft policy is available for review at: http://www.bia.gov/WhoWeAre/AS-IA/Consultation/index.htm. Submit comments by email to: consultation@bia.gov or by U.S. mail to: Office of the Assistant Secretary—Indian Affairs, attn.: CSC Comments, 1849 C Street NW., MS-3071-MIB, Washington, DC 20240.

FOR FURTHER INFORMATION CONTACT: Ms. Hankie Ortiz, Deputy Bureau Director—Indian Services, Bureau of Indian Affairs, at (202) 513-7640 or via email: hankie.ortiz@bia.gov.

SUPPLEMENTARY INFORMATION: Indian Affairs has conducted several tribal consultations and listening sessions over the past two years regarding funding to tribes for CSC and is now presenting a draft policy to provide full funding for CSC incurred by tribes under ISDEAA self-determination contracts and Self-Governance funding agreements. The draft policy provides a streamlined approach to calculating CSC that reflects the Department's commitment to paying all Tribes full CSC.

We will be hosting the following consultation sessions to discuss this draft CSC policy and invites Tribes' participation:

Date | Time (Local time zone) | Location
Wednesday, April 27, 2016 | 2:00 pm-4:00 pm | Buena Vista Palace and Resort, 1900 E Buena Vista Drive, Lake Buena Vista, FL 32830. Meeting Room: Great Hall North (in conjunction with the 2016 Annual Tribal Self-Governance Consultation Conference).
Tuesday, May 17, 2016 | 9:00 am-1:00 pm | DOI University—National Indian Programs Training Center, 1011 Indian School Road NW., Albuquerque, NM 87104. Meeting Room: 231-233.
Thursday, May 19, 2016 | 9:00 am-1:00 pm | Hilton San Francisco Union Square, 333 O'Farrell Street, San Francisco, CA 94102. Meeting Room: Taylor AB.
Friday, June 10, 2016 | 9:00 am-1:00 pm | The Skirvin Hilton Oklahoma City, One Park Avenue, Oklahoma City, OK 73102. Meeting Room: Continental Room.

Dated: March 22, 2016.
Lawrence S. Roberts,
Acting Assistant Secretary—Indian Affairs.

[FR Doc. 2016-06841 Filed 3-24-16; 8:45 am]

BILLING CODE 4337-15-P